ENVIRONMENTAL PROTECTION AGENCY

[FRL-6892-5]

Agency Information Collection Activities: Submission for OMB Review; Comment Request; EPA Landfill Methane Outreach Program

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: The Landfill Methane Outreach Program, ICR Number 1849.01. The ICR describes the nature of the information collection and its expected burden and cost; where appropriate, it includes the actual data collection instrument.

DATES: Comments must be submitted on or before November 27, 2000.

ADDRESSES: Send comments, referencing EPA ICR No. 1849.01 to the following addresses: Sandy Farmer, U.S. Environmental Protection Agency, Collection Strategies Division (Mail Code 2822), 1200 Pennsylvania Avenue, NW, Washington, DC 20460; and to, Office of Information and Regulatory Affairs, Office of Management and Budget (OMB), Attention: Desk Officer for EPA, 725 17th Street, NW, Washington, DC 20503.

FOR FURTHER INFORMATION CONTACT: For a copy of the ICR contact Sandy Farmer at EPA by phone at (202) 260-2740, by email at farmer.sandy@epamail.epa.gov, or download off the Internet at http://www.epa.gov/icr and refer to EPA ICR No. 1849.01. For technical questions about the ICR contact Cindy Jacobs at (202) 564-1129.

SUPPLEMENTARY INFORMATION: Title: EPA Landfill Methane Outreach Program (EPA ICR No. 1849.01). This is a new collection.

Abstract: The Landfill Methane Outreach Program (LMOP) is an EPA-sponsored voluntary program that encourages landfill owners, communities, and project developers to implement methane recovery technologies to utilize the methane as a source of fuel and to reduce emissions of methane, a potent greenhouse gas. The Landfill Methane Outreach Program further encourages utilities and other energy customers to support and promote the use of landfill methane at their facilities. The Landfill Methane Outreach Program signs voluntary Memoranda of Understanding (MOU) with these organizations to enlist their support in promoting cost-effective landfill gas utilization. The information collection includes one-time completion and submission of the MOU, and one-time and periodic completion and submission of information forms that include basic information on the organizations that sign the MOU and landfill methane projects in which they are involved. The primary purpose of the information collection is to evaluate the success of the LMOP in reducing methane emissions from landfills. Responses to the information collection are voluntary. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on 2/14/2000 (65 FR 7390); no comments were received.

Burden Statement: The annual public reporting and recordkeeping burden for this collection of information is estimated to average 4.8 hours per year per respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Local agencies and municipalities that own landfills, State agencies, Manufacturers and suppliers of equipment/knowledge to capture and utilize landfill gas, utility companies, End users of energy from the landfill.

Estimated Number of Respondents: 310 (average over 3 years).

Frequency of Response: Annually and on occasion.

Estimated Total Annual Hour Burden: 1,484 hours.

Estimated Total Annualized Capital and Operating & Maintenance Cost Burden: $670.

Send comments on the Agency's need for this information, the accuracy of the provided burden estimates, and any suggested methods for minimizing respondent burden, including through the use of automated collection techniques to the addresses listed above. Please refer to EPA ICR No. 1849.01 in any correspondence.

Dated: October 15, 2000.
Oscar Morales,
Director, Collection Strategies Division.

[FR Doc. 00-27579 Filed 10-25-00; 8:45 am]

BILLING CODE 6560-50-P